DEPARTMENT OF JUSTICE

Antitrust Division

Notice Pursuant to the National Cooperative Research and Production Act of 1993—Telemanagement Forum

Notice is hereby given that, on August 7, 2008, pursuant to Section 6(a) of the National Cooperative Research and Production Act of 1993, 15 U.S.C. 4301 et seq. (“the Act”), TeleManagement Forum (“the Forum”) filed written notifications simultaneously with the Attorney General and the Federal Trade Commission disclosing changes in its membership. The notifications were filed for the purpose of extending the Act's provisions limiting the recovery of antitrust plaintiffs to actual damages under specified circumstances. Specifically, Defense Science and Technology Organization, Edinburgh, South Australia, AUSTRALIA; Acando AS, NORWAY; acuma solutions limited, Manchester, UNITED KINGDOM; ADTRAN, Inc., Huntsville, AL; AGGAROS, Barcelona, SPAIN; Agora Data Systems, McLean, VA; Aiphion Corporation, Princeton Junction, NJ; Amartus, Dun Laoghaire, IRELAND; Anglo African Outsourcing Ltd., Quatre Bornes, Plaine Wilhems, REPUBLIC OF MAURITIUS; Auspice Corporation, Waltham, MA; Austar Entertainment, Ultimo, NSW, AUSTRALIA; Bahrain Telecommunications Company (Batelco), Manama, BAHRAIN; BESHARA GROUP, Salmiyah, KUWAIT; Bharti Airtel Ltd., Sector 39, Gurgaon, Haryana, INDIA; Bizitek, Istanbul, TURKEY; Booz Allen Hamilton, Inc., McLean, VA; BTC Mobile (PTY) Ltd., Gaborone, BOTSWANA; celsius technologies, Charleroi, BELGIUM; Center of Excellence, Abu Dhabi, UNITED ARAB EMIRATES; Centre for Development of Advanced Computing (CDAC), Vellayambalam, Thiruvananthapuram, INDIA; codecentric GmbH, Solingen, GERMANY; Critical Software, SA, Coimbra, PORTUGAL; Crown Interactive Limited, London, UNITED KINGDOM; Datentechnik Austria GmbH & Co KG, Wien, AUSTRIA; dave milham consulting, Woodbridge, Suffolk, UNITED KINGDOM; Deloitte, London, UNITED KINGDOM; eBIZ mobility, Bet Shemesh, ISRAEL; ECtel, Rosh Ha'ayin, ISRAEL; Effortel Russia, Moscow, RUSSIA; Emnico Technologies Ltd, Westlea, Swindon, UNITED KINGDOM; Empresa De Telecommunicaciones De Bogota S.A. E.S.P., Bogota, COLUMBIA; Etihad Atheeb Telecom Co., Riyadh, SAUDI ARABIA; Freestone Ltd, London, UNITED KINGDOM; Georg-August Universitat, Gottingen, GERMANY; GISDATA GROUP, Zagreb, CROATIA; Globus Consulting, 03730 Javea, Alicante, SPAIN; Groundhog Technologies, Cambridge, MA; HTK Ltd, Ipswich, UNITED KINDGDOM; Ingenium Technology, Monza, Milano, ITALY; Integra Consultores C.A., Caracas, Estado Miranda, VENEZUELA; IntellPower, Johnannesburg, Gauteng, SOUTH AFRICA; Interfacing Technologies Corp., Montreal, Quebec, CANADA; InterSoft, Melbourne, Victoria, AUSTRALIA; Iowa Communications Network, Des Moines, IA; iPass, Redwood Shores, CA; Ixonos Plc, Helsinki, FINLAND; JDSU Test & Measurement, Milpitas, CA; JSC “IPNET”, Moscow, RUSSIA; JSC UKRTELECOM, Kyiv, UKRAINE; Kentrox, Inc., Hillsboro, OR; Kordia, Auckland, NEW ZEALAND; LINKdotNET, Cairo, EGYPT; Men & Mice, Reykjavik, ICELAND; Microtest Education Center, Moscow, RUSSIA; moreCom as, Halden, NORWAY; NAB, Washington, DC; Neotel, Johannesburg, Gauteng, SOUTH AFRICA; Neptuny, Milan, ITALY; NZ Communications Ltd., Auckland, NEW ZEALAND; Ontology Systems, London, UNITED KINGDOM; Oy Swot Consulting Finland Ltd, Tampere, FINLAND; Perot Systems TSI (India) Ltd., Noida, Uttar Pradesh, INDIA; Prio, Inc., Overland Park, KS; Prodapt Corporation, Fremont, CA; Qvantel Software Solutions Ltd., Hyderabad, Andhra Pradesh, INDIA; Radiografica Costarricense S.A, San Jose, COSTA RICA; Satorai Solutions, Inc., Washington, DC; Selatra Limited, Cork, IRELAND; Sentech, Fourways, Gauteng, SOUTH AFRICA; Sequoia Telecom Associates, San Rafael, CA; serima Consulting sp. Zo. o., Gliwice, POLAND; Shabakkat, Kuwait City, KUWAIT; Sigma Tao Factory, S.A. de C.V., Queretaro, MEXICO; Signiant, Inc., Burlington, MA; SITA CORP, South Plainfield, NJ; Streamcore, Puteaux, FRANCE; Summa Telecom, Moscow, RUSSIA; TE Data, Dokki, Al-Jiza, EGYPT; Technology Training Limited, Cheltenham, Glos, UNITED KINGDOM; TEDESCA.BIZ, Schwanebeck, Berlin, GERMANY; Telecom Argentina, S.A., Buenos Aires, ARGENTINA; Teleconex Comercio e servicos em Telecomunicacoes Ltda ME, Campinas, Sao Paulo, BRAZIL; TmaxCore, Sungnam City, Gyeonggi-Do, SOUTH KOREA; TTNet A.S. (Turkish Telecom), Sisli/Instanbul, TURKEY; U Mobile Sdn Bhd, Kuala Lumpur, MALAYSIA; UBlqube Solutions, Grenoble, FRANCE; US Cellular, Chicago, IL; Velocent Systems Inc, Naperville, IL; Vertica Systems, Inc, Andover, MA; Virtusa Corporation, Westborough, MA; Vivo, SA, Sao Paulo, BRAZIL; Whitestein Technologies AG, Zug, SWITZERLAND; Winitu Communications B.V., Bodegraven, THE NETHERLANDS; and Xebia BV, Hilversum, THE NETHERLANDS, have been added as parties to this venture.

Also, 24*7 Telecom Services, Bear, DE; ACEWAY TELECOM TECHNOLOGY CO., LTD, Beijing, PEOPLE'S REPUBLIC OF CHINA; Actix, London, UNITED KINGDOM; Acumen Solutions UK Ltd, London, UNITED KINGDOM; AdvancedVoIP.com, Islamabad, PAKISTAN; Affinegy, Inc., Austin, TX; Anseres Consulting & Project Management, Rendsburg, GERMANY; Applied Broadband, Inc., Boulder, CO; Arkipelago Inc., Toronto, Ontario, CANADA; Ars Logica, Trento, ITALY; BOYRA, Bogota, COLUMBIA; Brighthaul, Herzelia, ISRAEL; Casema BV, Den Haag, THE NETHERLANDS; Centre of Software Engineering CSE, Hanoi, VIETNAM; China Link Communications LTD, Shanghai, PEOPLE'S REPUBLIC OF CHINA; Comergent Technologies, Redwood City, CA; CYPRUS TELECOMMUNICATIONS AUTHORITY (CYTA), Nicosia, CYPRUS; Dialog, Milton, Queensland, AUSTRALIA; DiGi Telecommunications Sdn Bhd, Shah Alam, Selangor, MALAYSIA; Embarq, Overland Park, KS; eServGlobal, Malakoff, Paris, FRANCE; Fernbrook Services, Montrose, Victoria, CANADA; Gamma Telecom, Newbury, Berkshire, UNITED KINGDOM; Giza Systems, Giza, Cairo, Mohandessen, EGYPT; ht systemberatung GmbH, Dorsten, GERMANY; iAxis Limited, Hyderabad, Andhra Pradesh, INDIA; Ilog, Inc., Gentilly Cedex, FRANCE; Industria, Dublin, IRELAND; JacobsRimell, London, UNITED KINGDOM; Kyak Systems Ltd, London, UNITED KINGDOM; Level 3 Communications, Broomfield, CO; Lounet Oy, Turku, FINLAND; Makendoski Telekomunikacii, Skopje, MACEDONIA; Micro Research SA, Namur, BELGIUM; Multikabel, Alkmaar, Noord, HOLLAND; Narus, Inc, Mountain View, CA; Neos Networks, Reading, Berkshire, UNITED KINGDOM; Ness Technologies & Systems Group (TSG), Tel Aviv, ISRAEL; Novabit Informationssysteme GmbH, Sauerlach, GERMANY; Novell, Waltham, MA; NTG Clarity Networks Inc, Cairo, EGYPT; Praxis High Integrity Systems Ltd, Bath, UNITED KINGDOM; Prepara2 America Inc, Miami, FL; PT. Smart Telecom, Jakarta, INDONESIA; S&T Austria GmbH, Vienna, AUSTRIA; SITA, Cointrin, Geneva, SWITZERLAND; Soluziona Mexico S.A. de C.V., Mexico City, MEXICO; SPIN SA UL. Wita Stwosza 7, POLAND; Sterling Commerce, Dublin, OH; Sycamore Networks, Inc., Chelmsford, MA; Terawave Communications Inc, Hayward, CA; Tigerstripe, Inc., Seattle, WA; Virgin Media, Hook, Hampshire, UNITED KINGDOM; and Virgin Mobile, Trowbridge, Wiltshire, UNITED KINGDOM, have withdrawn as parties to this venture.

The following members have changed their names: ADTRAN, Inc. to Adtran; ADVA Optical Networking Ltd to ADVA AG Optical Networking; Amdocs Management Limited to Amdocs Systems Europe Limited; Analysys Mason to Catalyst IT Partners Ltd; Aricent to Aricent Technologies (Holdings) Ltd; Bahrain Telecommunications (Batelco) to Batelco Group; Bahrain Telecommunications Company (Batelco) to Bahrain Telecommunications Company (BSC); BearingPoint INFONOVA GmBH to BearingPoint; Centre for Development of Advanced Computing (CDAC) to Center for Development of Advanced Computing; Cirquent GmbH to Softlab GmbH; Cognizant Technology Solutions U.S. Corporation to Cognizant Technology Solutions Corporation; ConceptWave Software to Concept Wave Software; Datentechnik Austria GmbH & Co KG to Datenchnik Austria GmbH & Co Nfg KG; Deloitte to Deloitte MCS Ltd; Elsag Datamat spa to Datamat S.p.A; Empresa De Telecommunicaciones De Bogota S.A. E.S.P. to ETB Colombia; Errigal Inc to Errigal Telecom Solutions; Hisashi Tada to Personal; INTRACOM S.A. TELECOM SOLUTIONS to INTRACOM S.A. ITS-International Turnkey Systems to ITS-Telecom Systems Group; JSC UKRTELECOM to JSC “UKRTELECOM”; MTN Group to MTN; NGOSS Lab of Lanzhou University to Powerise Software Research of Lanzhou University; Nokia Siemens Networks GmbH & Co. KG to Nokia Siemens Networks BV; Nokia Siemens Networks GmbH & Co. KG to Nokia Siemens Networks Gmbh; Nokia Siemens Networks GmbH & Co. KG to Nokia Siemens Networks Gmbh & Co.KG; Ontology Systems to Ontology-Partners Ltd; OSSEra, Inc. to OSSEra, Inc.1; Process Management Consulting GmbH to Process Man GmbHagement Consulting; PT Smart Telecom to PT Wireless Indonesia; Radiografica Costarricense S.A to RACSA (Radiografica Costarricense SA); SAS to SAS Institute Global Services Pvt. Ltd.; Sigma Systems to Sigma Systems Canada Inc; Software AG to webMethods; Subex to Subex Azure Ltd.; Superna Business Consulting Inc to Superna Business Consulting; Sygnity to Computerland; Telcominvest to Telecominvest; Tele Design Servicos E Comercio De Telecomunicoes to Telconex Comercio e Servicios em Telecomunicoes LTDA ME; Tellabs Operations, Inc to Tellabs Oy; Turk Telekomunikasyon A.S. to Turk Telekomunikasyon A.S.; U.S. Cellular to U.S. Cellular; Vivo, SA to Vivo; Windward IT Solutions, LLC to Windward Consulting Group; Zain to Mobile Telecommunications Company Group; Zain Bahrain to MTC-Vodafone (Bahrain); Zain Bahrain to Zain (Bahrain); Zain Jordan to Jordan Mobile Telephone Services-Fastlink; Zain Kuwait to Mobile Telecommunications Company; and Ziggo to @Home.

The following members have changed their addre sses: Acando AS to NORWAY; Aventnet, Inc to Pleasanton, CA; Amartus to Dun Laoghaire, IRELAND; ArchiTelco to Winchester, Hampshire, UNITED KINDGDOM; Bharti Airtel Ltd to Gurgaon, Haryana, INDIA; BTC Mobile (PTY) Ltd to Gaborone, BOTSWANA; CA to Portsmouth, NH; Center of Excellence to Abu Dhabi, UNITED ARAB EMIRATES; codecentric GmbH to Solingen, GERMANY; ConceptWave Software, Mississauga to Ontario, CANADA; Crown Interactive Limited to London, UNITED KINGDOM; DataSynapse Inc. to New York, NY; Datentechnik Wien to AUSTRIA; Deloitte to London, UNITED KINGDOM; EMBARQ, Overland Park to KS; Emnico Technologies Ltd to Westlea, Swindon, UNITED KINGDOM; Etihad Atheeb Telecom Co. to Riyadh, SAUDI ARABIA; Freestone Ltd to London, UNITED KINGDOM; Georg-August Universitat, Gottingen to Gottingen, GERMANY; GIP AG to Mainz, GERMANY; Globus Consulting to Alicante, SPAIN; Groundhog Technologies to Cambridge, MA; IBB Consulting Group to Philadelphia, PA; Innovative Systems to Mitchell, SD; Inteligentis Limited to Maidenhead, Berkshire, UNITED KINGDOM; Interfacing Technologies Corp to Montreal, Quebec, CANADA; InterSoft to Melbourne, Victoria, AUSTRALIA; iPass to Redwood Shores, CA; Ixonos Plc to Helsinki, FINLAND; JDSU Test & Measurement to Milpitas, CA; Kordia to Auckland, NEW ZEALAND; Kornel Terplan to Hackensack, NJ; Kvazar-Micro Corporation BV to Amsterdam, THE NETHERLANDS; MSTelcom to Luanda, ANGOLA; Nortel to Ottawa, Ontario, CANADA; OMANTEL to Ruwi, Muscat, OMAN; Piran Partners LLP to London, UNITED KINGDOM; Process Management Consulting GmbH to Muenchen, GERMANY; Satorai Solutions, Inc. to Washington, DC; Signiant, Inc. to Burlington, MA; Superna Business Consulting Inc to Ottawa, Ontario, CANADA; Sybase SA to Johannesburg, Rivonia, SOUTH AFRICA; Sygnity to Warsaw, Mazowieckie, POLAND; TeamQuest Corporation to IA; Technology Training Limited to Cheltenham, Gloucestershire, UNITED KINGDOM; Telecom Argentina, S.A. to Buenos Aires, ARGENTINA; Telecom@Work to Bornem, BELGIUM; TmaxCore to Sungnam City, Gyeonggi-Do, REPUBLIC OF KOREA; TTI Telecom to Rosh Ha'ayin, ISRAEL; U.S. Cellular to Chicago, IL; VicTrack to Docklands, Victoria, AUSTRALIA; Virtusa Corporation to Westborough, MA; Vivo, SA to Sao Paulo, BRAZIL; and Whitestein Technologies AG to Zug, SWITZERLAND.

No other changes have been made in either the membership or planned activity of the group research project. Membership in this group research project remains open, and the Forum intends to file additional written notifications disclosing all changes in membership.

On October 21, 1988, the Forum filed its original notification pursuant to Section 6(a) of the Act. The Department of Justice published a notice in the Federal Register pursuant to Section 6(b) of the Act on December 8, 1988 (53 FR 49615).

The last notification was filed with the Department on February 14, 2008. A notice was published in the Federal Register pursuant to Section 6(b) of the Act on April 16, 2008 (73 FR 20714).

Patricia A. Brink,
Deputy Director of Operations, Antitrust Division.

[FR Doc. E8-26551 Filed 11-7-08; 8:45 am]

BILLING CODE 4410-11-M